DEPARTMENT OF ENERGY

Federal Energy Regulatory Commission

[Docket Nos. CP02-90-001 and CP02-93-001]

AES Ocean Express LLC; Notice of Amendments to Applications for a Certificates of Public Convenience and Neccessity, and for Section 3 Authorization and a Presidential Permit

October 24, 2002.

Take notice that on October 18, 2002, AES Ocean Express LLC (Ocean Express), Two Alhambra Plaza, Suite 1104, Coral Gables, Florida, 33134, filed in Docket No. CP02-90-001 an amendment to its pending application for a certificate of public convenience and necessity filed pursuant to Section 7(c) of the Natural Gas Act (NGA) in Docket No. CP02-90-000, and in Docket No. CP02-93-001, it filed an amendment to its pending application for a Presidential Permit and Section 3 authorization, filed pursuant to Section 3 of the NGA and Executive Order No. 10485 in Docket No. CP02-93-000. The application amendments reflect a proposed new route variation and certain revised pipeline materials and design in the vicinity of the 12-square mile Navy Restricted Area located offshore from Broward County, Florida, as well as a change in the ownership structure of Ocean Express.

The application amendments are on file with the Commission and open to public inspection. The filings may be viewed on the web at http://www.ferc.gov using the “FERRIS” link, selecting “Docket #” and following the instructions (please call (202) 208-2222 for assistance). Any questions regarding the applications or these amendments may be directed to Julie Romaniw, AES Ocean Express LLC, Two Alhambra Plaza, Suite 1104, Coral Gables, FL 33134; Phone No. (305) 444-4002.

Ocean Express explains that its proposed route variation reflects the measures contemplated by the “agreement in principle” reached between Ocean Express and the Naval Surface Warfare Center, Carderock Division (Naval Group) to resolve the Naval Group's technical and operational concerns regarding construction, operation and maintenance of the proposed Ocean Express Pipeline offshore of Broward County, Florida. Specifically, Ocean Express states that its amendment involves a 7.5-mile offshore route variation, as well as the use of special stainless steel, 40-foot and 500-foot anode spacings, three-layer polypropylene coating and other design features for specific portions of the offshore pipeline. Ocean Express explains that in developing the 7.5-mile offshore route variation, it gave extensive consideration to the avoidance or minimization of potential impacts to sensitive marine resources, such as the three nearshore reef systems, the technical feasibility of constructing the offshore route variation, and other related factors.

The proposed route variation increases the estimated cost of the project to from $ 93.1 million to $ 111.6 million and increases the Monthly Reservation Rate from $ 1.3859 per Dth to $ 1.6085 per Dth. The design capacity of the project is unchanged and is 842,000 Dth per day. The total length of the United States part of the pipeline project is increased from 52.4 miles to 54.3 miles; the onshore route and 6.3 mile length remains unchanged, but the offshore length in increased from 46.1 miles to 48.0 miles.

Separately, Ocean Express explains that since the time it filed its original applications in these proceedings on February 21, 2002, VAC Ocean Cay LLC (VAC) has acquired a 25% interest in Ocean Express. Ocean Express states that it has included the information and documentation required by the Commission's regulations regarding the new ownership structure.

Ocean Express requests that the Commission issue a preliminary determination on non-environmental issues by February 1, 2003, and final certificate authorization by early in the third quarter of 2003.

There are two ways to become involved in the Commission's review of this project. First, any person wishing to obtain legal status by becoming a party to the proceedings for this project should, on or before November 14, 2002, file with the Federal Energy Regulatory Commission, 888 First Street, NE, Washington, DC 20426, a motion to intervene in accordance with the requirements of the Commission's Rules of Practice and Procedure (18 CFR 385.211 and 385.214) and the regulations under the NGA (18 CFR 157.10). A person obtaining party status will be placed on the service list maintained by the Secretary of the Commission and will receive copies of all documents filed by the applicant and by all other parties. A party must submit 14 copies of filings made with the Commission and must mail a copy to the applicant and to every other party currently in the proceeding. Only parties to the proceeding can ask for court review of Commission orders in the proceeding.

Motions to intervene, comments and protests may be filed electronically via the internet in lieu of paper. See 18 CFR 385.2001(a)(1)(iii) and the Commission's website at http://www.ferc.gov. . The Commission strongly encourages prospective intervenors, commenters or protesters to file electronically.

Parties who filed motions to intervene in the underlying pending applications in Docket Nos. CP02-90, et al. do not need to move to intervene again in response to this notice, but may file a supplement to their previous filing(s) if they have any comments or protests with regard to the changes in the project proposed by these amendments.

Persons who wish to comment only on the environmental review of this project, as amended, should submit an original and two copies of their comments to the Secretary of the Commission. Environmental commenters will be placed on the Commission's environmental mailing list, will receive copies of environmental documents, and will be able to participate in meetings associated with the Commission's environmental review process. Commenters will not be required to serve copies of filed documents on all other parties. However, Commenters will not receive copies of all documents filed by other parties or issued by the Commission, and will not have the right to seek rehearing or appeal the Commission's final order to a Federal court.

The Commission will consider all comments and concerns equally, whether filed by commenters or those requesting intervenor status.

The Commission may issue a preliminary determination on non-environmental issues prior to the completion of its review of the environmental aspects of the project. This preliminary determination typically considers such issues as the need for the project and its economic effect on existing customers of the applicant, on other pipelines in the area, and ion landowners and communities. For example, the Commission considers the extent to which the applicant may need to exercise eminent domain to obtain rights-of-way for the proposed project and balances that against the non-environmental benefits to be provided by the project. Therefore, if a person has comments on community and landowner impacts from this proposal, it is important to file comments or to intervene as early in the process as possible.

If the Commission decides to set the application for a formal hearing before an Administrative Law Judge, the Commission will issue another notice describing that process. At the end of the Commission's review process, a final Commission order approving or denying a certificate will be issued.

Linwood A. Watson, Jr.,
Deputy Secretary.

[FR Doc. 02-27924 Filed 11-1-02; 8:45 am]

BILLING CODE 6717-01-P